DEPARTMENT OF TRANSPORTATION

Federal Aviation Administration

14 CFR Part 39

[Docket No. FAA-2009-0137; Directorate Identifier 2008-NM-201-AD; Amendment 39-15967; AD 2009-15-04]

RIN 2120-AA64

Airworthiness Directives; Airbus Model A330-200 and -300, and A340-200 and -300 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Several reports have been received from A330 and A340 operators concerning chafing of the electrical harness behind the lavatory, located at L (level) 53, resulting in a number of short-circuits. This harness contains cables for lighting, plugs, loudspeakers and oxygen controls and indications.

This condition, if not corrected, could lead to the short circuit of wires dedicated to oxygen, which, in case of emergency, could result in a large number of passenger oxygen masks (up to 32% of all seats) not being supplied with oxygen, possibly causing personal injuries.

* * * * *

We are issuing this AD to require actions to correct the unsafe condition on these products.

DATES: This AD becomes effective August 19, 2009.

The Director of the Federal Register approved the incorporation by reference of certain publications listed in this AD as of August 19, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on February 23, 2009 (74 FR 8036). That NPRM proposed to correct an unsafe condition for the specified products. The MCAI states:

Several reports have been received from A330 and A340 operators concerning chafing of the electrical harness behind the lavatory, located at L (level) 53, resulting in a number of short-circuits. This harness contains cables for lighting, plugs, loudspeakers and oxygen controls and indications.

This condition, if not corrected, could lead to the short circuit of wires dedicated to oxygen, which, in case of emergency, could result in a large number of passenger oxygen masks (up to 32% of all seats) not being supplied with oxygen, possibly causing personal injuries.

For the reasons described above, AD 2008-0154 was issued to require a wiring modification of the affected harnesses on right and left sides of the passenger compartment between frames (FR) 39.1 and 39.2 and between FR 53.3 and 53.4, on pre-modification 48825 aircraft (i.e. non-enhanced cabin).

Since that AD was issued, it has been found that due to discrepancies in the referenced Airbus Service Bulletin (SB) at original issue, the modification should have been mandated at Revision 1 of the SB, rather than indicating that application of the SB at original issue is acceptable.

For that reason, this EASA (European Aviation Safety Agency) AD retains the requirements of EASA AD 2008-0154, which is superseded, amends the requirement to specify that the SB must be accomplished at Revision 1 and that for aircraft on which the SB at original issue has already been accomplished, additional work must be done.

* * * * *

The modification includes rerouting the affected electrical harnesses and replacing certain wiring mounts and brackets in the passenger compartment. For all airplanes, additional work is required. The additional work includes interchanging certain fixed brackets and modifying certain wiring routing. You may obtain further information by examining the MCAI in the AD docket.

Comments

We gave the public the opportunity to participate in developing this AD. We received no comments on the NPRM or on the determination of the cost to the public.

Actions Since the NPRM Was Issued

We have received revisions to the service information specified in the NPRM. Airbus issued Mandatory Service Bulletin A330-92-3066, Revision 02, dated March 19, 2009; and Mandatory Service Bulletin A340-92-4071, Revision 03, dated March 19, 2009 (“the service bulletins”). The actions described in the service bulletins are intended to correct the unsafe condition identified in the MCAI. Those revisions of the service bulletins include editorial changes, clarifying language, and no substantive changes to the Accomplishment Instructions. No additional work is required for airplanes modified by Airbus Mandatory Service Bulletin A330-92-3066, Revision 01, dated August 1, 2008; and Airbus Mandatory Service Bulletin A340-92-4071, Revision 02, dated November 28, 2008.

We have changed paragraphs (f)(1), (f)(2), and (h) to refer to the new revisions of the service bulletins, and added Airbus Mandatory Service Bulletin A330-92-3066, Revision 01; and Airbus Mandatory Service Bulletin A340-92-4071, Revision 02; to paragraph (f)(3) as acceptable for complying with the requirements of paragraphs (f)(1) and (f)(2) of this AD.

EASA, which is the Technical Agent for the Member States of the European Community, has issued EASA Airworthiness Directive 2008-0161R1, dated March 23, 2009 (referred to after this as “the MCAI”), to correct an unsafe condition for the specified products. That MCAI differs from MCAI EASA AD 2008-0161, dated August 25, 2008, which is referenced in the NPRM, by adding a paragraph extending the compliance time to 24 months from the 20 months stated in the MCAI referenced in the NPRM. We have included that additional paragraph of the new MCAI in the quoted material in paragraph (e) of this AD, and changed paragraph (f) of this AD to reflect the new compliance time stated in the MCAI.

Conclusion

We reviewed the available data and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 9 products of U.S. registry. We also estimate that it will take 210 work-hours per product to comply with the basic requirements of this AD. The average labor rate is $80 per work-hour. Required parts will cost about $0 per product. Where the service information lists required parts costs that are covered under warranty, we have assumed that there will be no charge for these parts. As we do not control warranty coverage for affected parties, some parties may incur costs higher than estimated here. Based on these figures, we estimate the cost of this AD to the U.S. operators to be $151,200, or $16,800 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-15-04 Airbus: Amendment 39-15967. Docket No. FAA-2009-0137; Directorate Identifier 2008-NM-201-AD.

Effective Date

(a) This airworthiness directive (AD) becomes effective August 19, 2009.

Affected ADs

(b) None.

Applicability

(c) This AD applies to Model A330-201, -202, -203, -223, -243, -301, -302, -303, -321, -322, -323, -341, -342, and -343 series airplanes; and Model A340-211, -212, -213, -311, -312, and -313 series airplanes; all manufacturer serial numbers, certificated in any category, except those on which Airbus Modification 48825 has been embodied in production.

Subject

(d) Air Transport Association (ATA) of America Code 92.

Reason

(e) The mandatory continuing airworthiness information (MCAI) states:

Several reports have been received from A330 and A340 operators concerning chafing of the electrical harness behind the lavatory, located at L (level) 53, resulting in a number of short-circuits. This harness contains cables for lighting, plugs, loudspeakers and oxygen controls and indications.

This condition, if not corrected, could lead to the short circuit of wires dedicated to oxygen, which, in case of emergency, could result in a large number of passenger oxygen masks (up to 32% of all seats) not being supplied with oxygen, possibly causing personal injuries.

For the reasons described above, AD 2008-0154 was issued to require a wiring modification of the affected harnesses on right and left sides of the passenger compartment between frames (FR) 39.1 and 39.2 and between FR 53.3 and 53.4, on pre-modification 48825 aircraft (i.e. non-enhanced cabin).

Since that AD was issued, it has been found that due to discrepancies in the referenced Airbus Service Bulletin (SB) at original issue, the modification should have been mandated at Revision 1 of the SB, rather than indicating that application of the SB at original issue is acceptable.

For that reason, this EASA (European Aviation Safety Agency) AD retains the requirements of EASA AD 2008-0154, which is superseded, amends the requirement to specify that the SB must be accomplished at Revision 1 and that for aircraft on which the SB at original issue has already been accomplished, additional work must be done.

Th[e] Revision 1 [of EASA AD 2008-0161] is issued to extend the compliance time, which originally was 20 months, to 24 months * * * after the effective date of this AD. * * *

The modification includes rerouting the affected electrical harnesses and replacing certain wiring mounts and brackets in the passenger compartment. For all airplanes, additional work is required. The additional work includes interchanging certain fixed brackets and modifying certain wiring routing.

Actions and Compliance

(f) Unless already done, within 24 months after the effective date of this AD, do the following actions, as applicable.

(1) Except as required by paragraph (f)(2) of this AD, modify the affected passenger compartment electrical harnesses, including the “ADDITIONAL WORK,” in accordance with the Accomplishment Instructions of Airbus Mandatory Service Bulletin A330-92-3066, Revision 02, dated March 19, 2009; or Airbus Mandatory Service Bulletin A340-92-4071, Revision 03, dated March 19, 2009; as applicable.

(2) For airplanes that have already been modified prior to the effective date of this AD in accordance with the Accomplishment Instructions of Airbus Service Bulletin A330-92-3066, dated November 27, 2007; or Airbus Service Bulletin A340-92-4071, dated November 27, 2007; as applicable: Accomplish the “ADDITIONAL WORK” in accordance with the Accomplishment Instructions of Airbus Mandatory Service Bulletin A330-92-3066, Revision 02, dated March 19, 2009; or Airbus Mandatory Service Bulletin A340-92-4071, Revision 03, dated March 19, 2009; as applicable.

(3) Actions accomplished according to the Airbus service information identified in Table 1 of this AD, including the “ADDITIONAL WORK,” as applicable, are acceptable for complying with the requirements of paragraphs (f)(1) and (f)(2) of this AD.

Table 1—Acceptable Service Information
Airbus Mandatory Service Bulletin | Revision | Date
A330-92-3066 | 01 | August 1, 2008.
A340-92-4071 | 01 | August 1, 2008.
A340-92-4071 | 02 | November 28, 2008.

FAA AD Differences

Note 1: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI EASA Airworthiness Directive 2008-0161R1, dated March 23, 2009, and the service information listed in Table 2 of this AD, for related information.

Table 2—Related Service Information
Airbus Mandatory Service Bulletin | Revision | Date
A330-92-3066 | 01 | August 1, 2008.
A330-92-3066 | 02 | March 19, 2009.
A340-92-4071 | 01 | August 1, 2008.
A340-92-4071 | 02 | November 28, 2008.
A340-92-4071 | 03 | March 19, 2009.

Material Incorporated by Reference

(i) You must use the applicable service information contained in Table 3 of this AD to do the actions required by this AD, unless the AD specifies otherwise.

(1) The Director of the Federal Register approved the incorporation by reference of this service information under 5 U.S.C. 552(a) and 1 CFR part 51.

(2) For service information identified in this AD, contact Airbus SA—Airworthiness Office—EAL, 1 Rond Point Maurice Bellonte, 31707 Blagnac Cedex, France; telephone +33 5 61 93 36 96; fax +33 5 61 93 45 80, e-mail airworthiness.A330-A340@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Table 3—Material Incorporated by Reference
Airbus Mandatory Service Bulletin | Revision | Date
A330-92-3066 | 01 | August 1, 2008.
A330-92-3066 | 02 | March 19, 2009.
A340-92-4071 | 01 | August 1, 2008.
A340-92-4071 | 02 | November 28, 2008.
A340-92-4071 | 03 | March 19, 2009.

Issued in Renton, Washington, on July 2, 2009.
Ali Bahrami,
Manager, Transport Airplane Directorate, Aircraft Certification Service.

[FR Doc. E9-16468 Filed 7-14-09; 8:45 am]

BILLING CODE 4910-13-P